DEPARTMENT OF ENERGY

Federal Energy Regulatory Commission

[Docket No. EL05-147-000]

Milford Power Company, LLC v. ISO New England, Inc.; Notice of Complaint

September 1, 2005.

Take notice that on August 31, 2005, Milford Power Company, LLC (Milford) filed a formal complaint against ISO New England, Inc. (ISO-NE) pursuant to section 206 of the Federal Power Act, alleging that ISO-NE's implementation of the Reliability Must Run Agreement between ISO-NE and Milford is inconsistent with the terms of the agreement and results in Milford's failure to recover its full cost-of-service rate in an hour even though the Milford units were fully available in that hour. Milford requests that the Commission direct ISO-NE to make a billing adjustment to recalculate the payments due to Milford to factor in ambient air temperatures.

Milford states that copies of the complaint were served on the contacts for ISO-NE as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on September 20, 2005.

Linda Mitry,
Deputy Secretary.

[FR Doc. E5-4897 Filed 9-8-05; 8:45 am]

BILLING CODE 6717-01-P